DEPARTMENT OF DEFENSE

Department of the Army; Corps of Engineers

Availability of a Draft Environmental Impact Statement To Consider Issuance of a Department of the Army Permit Pursuant to Section 404 of the Clean Water Act for Hobet Mining, Inc.'s Proposed Surface Coal Mining Operation in Conjunction With Its Spruce No. 1 Surface Mine, Near Blair in Logan County, WV

AGENCY: Department of the Army, Army Corps of Engineers, DoD.

ACTION: Notice.

SUMMARY: In accordance with the requirements of the National Environmental Policy Act (NEPA), the U.S. Army Corps of Engineers (USACE) Huntington District, in cooperation with U.S. Environmental Protection Agency, the U.S. Fish and Wildlife Service, the Office of Surface Mining and the West Virginia Department of Environmental Protection, has prepared a Draft Environmental Impact Statement (DEIS). This DEIS evaluates potential impacts to the natural, physical and human environment as a result of the proposed mining activities associated with Hobet's Spruce No. 1 Surface Mine. The USACE regulates this proposed project pursuant to Section 404 of the Clean Water Act. The proposed activity is to construct valley fills to dispose of excess overburden spoil into waters of the United States. The overburden is generated by surface mining operations in order to achieve optimal recovery of available coal reserves within the project area in a safe, cost-effective and environmentally sound manner.

DATES: Submit comments by June 10, 2002.

ADDRESSES: Send written comments and suggestions concerning this proposal to Teresa (Hughes) Spagna, U.S. Army Corps of Engineers, Huntington District, Attn: Regulatory Branch-OR-FS, 502 8th Street, Huntington, West Virginia 25701. Telephone (304) 529-5710 or e-mail at Teresa.D.Hughes@Lrh01. usace.army.mil. Requests to be placed on the mailing list should also be sent to this address.

FOR FURTHER INFORMATION CONTACT: Teresa (Hughes) Spagna, U.S. Army Corps of Engineers, Huntington District, Attn: Regulatory Branch-OR-FS, 502 8th Street, Huntington, West Virginia 25701. Telephone (304) 529-5710 or electronic mail at Teresa.D.Hughes@Lrh01. usace.army.mil.

SUPPLEMENTARY INFORMATION: Discharges of fill material into the jurisdictional waters of the United States are regulated under Section 404 of the Clean Water Act, with the permitting responsibility administered by the USACE. The proposed project must also address environmental impacts relative to the Clean Air Act, Clean Water Act, Endangered Species Act and the Fish and Wildlife Coordination Act (FWCA). In accordance with the NEPA, the DEIS evaluated reasonable alternatives for the USACE's decision making process. As required by NEPA, the USACE also analyzes the “no action” alternative as a baseline for gauging potential impacts.

As part of the public involvement process, notice is hereby given by the USACE-Huntington District of a public hearing to be held at the Chief Logan State Park, in Logan, Logan County, West Virginia, from 6:30 to 10 p.m. on April 24, 2002. The public hearing will allow participants the opportunity to comment on the DEIS prepared for the proposed Spruce No. 1 Mine project. Written comments should be sent to: Mr. James M. Richmond, Chief, Regulatory Branch, Huntington District, U.S. Army Corps of Engineers. 502 Eighth Street, Huntington, West Virginia 25701-2070 or by e-mail at Teresa.D.Hughes@Lrh01. usace.army.mil. The comments are due 60 days from the date of publication of this notice. Copies of the document may be obtained by contacting USACE Huntington District Regulatory Branch at 304-529-5210 or 304-529-5710.

Copies of the DEIS are also available for inspection at the locations identified below:

(1) Blair Post Office, P.O. Box 9998, Blair, WV 25022-9998.

(2) Kanawha County Public Library, 123 Capitol Street, Charleston, WV 25301.

(3) Logan County Public Library, 16 Wildcat Way, Logan, WV 25601.

After the public comment period ends, USACE will consider all comments received, revise the DEIS as appropriate, and issue a final Environmental Impact Statement.

Luz D. Ortiz,
Army Federal Register Liaison Officer.

[FR Doc. 02-8681 Filed 4-9-02; 8:45 am]

BILLING CODE 3710-GM-M